FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 4, 2014.

A. Federal Reserve Bank of St. Louis (Yvonne Sparks, Community Development Officer) P.O. Box 442, St. Louis, Missouri 63166-2034:

1. Riney Family Control Group acting in concert to retain control of Kentucky Home Bancshares, Inc., Bardstown, Kentucky. The Riney Family Control Group consists of Teresa White Riney; Teresa White Riney, IRA; William Anthony Riney, Jr.; William Anthony Riney, Jr. IRA; William Anthony Riney, Jr., Custodian for Thomas William Riney; William Anthony Riney, Jr., Custodian for John William Riney; Betty Doris White; William Anthony Riney, Sr.; Nancy White Hale, IRA; Rachel White Fenwick; Joseph Stephen Fenwick; David Wayne

Riney, IRA; David Wayne Riney; Rhonda Thompson Riney; James Kevin Riney; Lori Russell Riney, all of Springfield, Kentucky; Charles David White and Janice Carol White, both of Bardstown, Kentucky; Theresa Riney Noel and Bradley Dee Noel, both of Harrodsburg, Kentucky; and Deborah Jean Goist, Portage, Michigan.

Board of Governors of the Federal Reserve System, May 15, 2014.
Michael J. Lewandowski,
Assistant Secretary of the Board.

[FR Doc. 2014-11653 Filed 5-20-14; 8:45 am]

BILLING CODE 6210-01-P